DEPARTMENT OF THE INTERIOR

Bureau of Land Management

[PO4820000251]

Notice of Availability of the Record of Decision for the Tri-State Fuel Breaks Project

AGENCY: Bureau of Land Management, Interior.

ACTION: Notice of availability.

SUMMARY: The Bureau of Land Management (BLM) announces the availability of the Record of Decision (ROD) for the Final Environmental Impact Statement (FEIS) for the Tri-state Fuel Breaks Project located in southeastern Oregon. The ROD constitutes the decision of the BLM.

DATES: The ROD was signed on December 13, 2024.

ADDRESSES: The ROD is available online at https://eplanning.blm.gov/eplanning-ui/project/2034234/510.

FOR FURTHER INFORMATION CONTACT: Larisa Bogardus, Public Affairs Specialist, telephone (541) 523-1407; address 100 Oregon Street Vale, OR 97918; email lbogardus@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The BLM has determined that the analysis contained within the FEIS is adequate to reach an informed decision regarding implementation of the Project in Oregon. The BLM selects Alternative 5, with minor route segments selected from other alternatives as described in the FEIS, for construction and maintenance of approximately 26,585 acres of fuel breaks, along approximately 552 miles of roads and within approximately 332 miles of the roadbed through mechanical, chemical, and/or biological (i.e., targeted grazing) treatments on BLM-administered lands in Oregon. Alternative 5 was developed in response to public comments. Individually, Alternatives 2, 3, and 4 each primarily benefit a single resource. Alternative 5 blends elements of Alternatives 2, 3, and 4 to provide a strategic benefit to firefighters while minimizing disturbance to natural and cultural resources. A phased implementation of actions will occur to provide opportunity to review treatment effectiveness and adapt subsequent implementation actions and will also provide an opportunity for additional coordination with Oregon Department of Fish and Wildlife (ODFW) prior to fuel break construction along less-traveled roads. During the first phase, the BLM will focus on well-traveled routes in order to further enhance the knowledge base on successful treatment timing and techniques, ecological impacts of treatments, and adaptive management responses. Treatments and methods in Oregon will be the same as those identified and analyzed in the FEIS. Up to four new mineral material sites will be developed as the first phase of fuel break development is nearing completion.

All practicable means to avoid or minimize environmental harm from the Project that were analyzed in the FEIS have been adopted in this decision and are included as appendices. Design features provide implementation timing restrictions and other protections to minimize impacts to wildlife. These features include buffers for sensitive plant occurrences from non-native seeded species, mechanical treatment avoidance buffers to protect riparian resources, and treatment buffers no more than 200 feet from either side of centerline along roads to conform to the 2024 Southeastern Oregon Resource Management Plan Amendment, which established 250-foot setbacks for Wilderness Study Areas.

The Project includes a robust monitoring and adaptive management plan to manage invasive annual species and noxious weeds within fuel breaks, collect ecological trend data to provide information on the ecological effects of vegetative treatments, and outline appropriate management responses. The Project also includes management direction and required design features from the 2015 Oregon Greater Sage-grouse Approved Resource Management Plan Amendment, as described in Appendix 3 to the ROD. A programmatic agreement (Appendix 4 to the ROD) describes how BLM will meet its responsibilities under Section 106 of the National Historic Preservation Act and avoid or minimize adverse impacts to cultural resources during Project implementation and maintenance.

There have been no changes made to the selected alternative between the publication of the FEIS and the ROD.

The Department of the Interior has approved the BLM's decision. Approval of the Record of Decision therefore constitutes the final decision of the Department of the Interior and is not subject to appeal under Departmental regulations at 43 CFR part 4.

Barry R. Bushue,
BLM Oregon/Washington State Director.

[FR Doc. 2024-30357 Filed 12-19-24; 8:45 am]

BILLING CODE 4331-24-P